LIBRARY OF CONGRESS

Copyright Royalty Board

[Docket No. 17-CRB-0011-SD (2015)]

Distribution of 2015 Satellite Royalty Funds

AGENCY: Copyright Royalty Board (CRB), Library of Congress.

ACTION: Notice requesting reply comments.

SUMMARY: The Copyright Royalty Judges solicit reply comments on a motion of Allocation Phase claimants for partial distribution of 2015 satellite royalty funds.

DATES: Reply comments are due on or before October 30, 2017. Surreplies from original commenters are due on or before November 8, 2017.

ADDRESSES: You may make replies and surreplies, identified by docket number 17-CRB-0011-SD (2015), by any of the following methods:

CRB's electronic filing application: Submit comments online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Instructions: Unless submitting online, commenters must submit an original, five paper copies, and an electronic version on a CD. All submissions must include the CRB's name and docket number. All submissions will be posted without change to eCRB on https://www.crb.gov including any personal information provided.

Docket: For access to the docket to read background documents or comments received, go to eCRB, the Copyright Royalty Board's electronic filing and case management system, at https://app.crb.gov/ and search for docket number 17-CRB-0011-SD (2015). For documents not yet uploaded to eCRB (because it is a new system), go to the agency Web site at https://www.crb.gov/ or contact the CRB Program Specialist.

FOR FURTHER INFORMATION CONTACT: Anita Blaine, CRB Program Specialist, by telephone at (202) 707-7658 or email at crb@loc.gov.

SUPPLEMENTARY INFORMATION: On February 17, 2017, representatives of all the Allocation Phase claimant categories (formerly “Phase I”) ¹ filed with the Judges a motion requesting a partial distribution amounting to 60% of the 2015 satellite royalty funds pursuant to section 801(b)(3)(C) of the Copyright Act. 17 U.S.C. 801(b)(3)(C). That section requires that, before ruling on the motion, the Judges publish a notice in the Federal Register seeking responses to the motion for partial distribution to ascertain whether any claimant entitled to receive the subject royalties has a reasonable objection to the requested distribution.

¹ The “Allocation Phase Claimants” are Program Suppliers, Joint Sports Claimants, Broadcaster Claimants Group, Music Claimants (represented by American Society of Composers, Authors and Publishers, Broadcast Music, Inc., and SESAC, Inc.), and Devotional Claimants.

On April 17, 2017, the Judges published a notice in the Federal Register seeking comments on the motion.² The Judges received two comments on the motion, both of which opposed the partial distribution as proposed. In particular, one commenter contended that two of the parties seeking a partial distribution had not provided a means to permit proper identification of those claimant representatives and that neither of the claimant representatives was an established claimant with respect to satellite funds and therefore were precluded by applicable precedent from receiving a partial distribution of satellite royalties. On June 9, 2017, the Devotional Claimants filed a motion for leave to file reply comments to the objection of the Multigroup Claimants. Motion of Devotional Claimants for Leave to File Reply to Multigroup Claimants' Objection to Partial Distribution of 2015 Satellite Royalty Funds to Certain “Allocation Phase Parties.” In light of this motion and the comments submitted on the filing, the Judges request reply comments that respond to any issues the commenters raised with respect to the motion for partial distribution and that address whether or not any commenter raised a reasonable objection to the proposed partial distribution and if not, why not.³

² 82 FR 18160.

³ Given the Judges' general request for reply comments, the Judges DENY the Devotional Claimants' motion as moot.

In addition, the Judges permit either of the original commenters to offer surreply to any reply comments the Judges receive. Reply comments must be filed no later than 30 days after the publication of this notice in the Federal Register. Surreplies, if any, must be filed no later than ten days after the deadline for filing reply comments.

The Motion of the Allocation Phase Claimants and the comments are posted on the Copyright Royalty Board Web site at http://www.loc.gov/crb.

Dated: September 26, 2017
Suzanne M. Barnett,
Chief U.S. Copyright Royalty Judge.

[FR Doc. 2017-20926 Filed 9-28-17; 8:45 am]

BILLING CODE P